DEPARTMENT OF AGRICULTURE

Forest Service

36 CFR Part 261

RIN 0596-AC38

Amend Certain Paragraphs in 36 CFR 261.2 and 261.10 To Clarify Issuing a Criminal Citation for Unauthorized Occupancy and Use of National Forest System Lands and Facilities by Mineral Operators

AGENCY: Forest Service, USDA.

ACTION: Proposed rule; reopening of comment period.

SUMMARY: The Forest Service is reopening the comment period for an additional 30 days and invites written comments on this proposed rule. The proposed rule was published in the Federal Register on May 10, 2007 (72 FR 26578), and should be referenced when preparing responses. This proposed rule would allow, if necessary, a criminal citation to be issued for unauthorized mineral operations on National Forest System lands.

DATES: Comments on this proposed rule must be received in writing by November 23, 2007.

ADDRESSES: Send written comments to Forest Service, USDA, Attn: Director, Minerals and Geology Management (MGM) Staff, (2810), at Mail Stop 1126, Washington, DC 20250-1126; by electronic mail to 36cfr228a@fs.fed.us; or by fax to (703) 605-1575; or by the electronic process available at the Federal e-Rulemaking portal at http://www.regulations.gov. If comments are sent by electronic mail or by fax, the public is requested not to send duplicate written comments via regular mail. Please confine written comments to issues pertinent to the proposed rule; explain the reasons for any recommended changes; and, where possible, reference the specific wording being addressed. All comments, including names and addresses when provided, will be placed in the record and will be available for public inspection and copying. The public may inspect comments received on this proposed rule in the Office of the Director, MGM Staff, 5th Floor, Rosslyn Plaza Central, 1601 North Kent Street, Arlington, Virginia 22209, Monday through Friday (except for Federal holidays) between the hours of 8:30 a.m. and 4 p.m. Those wishing to inspect comments are encouraged to call ahead at (703) 605-4545 to facilitate entry into the building.

FOR FURTHER INFORMATION CONTACT: Janine Clayton, Minerals and Geology Management Staff, (703) 605-4788, or electronic mail to jclayton01@fs.fed.us.

Dated: October 16, 2007.
Gloria Manning,
Associate Deputy Chief, NFS.

[FR Doc. E7-20758 Filed 10-22-07; 8:45 am]

BILLING CODE 3410-11-P